DEPARTMENT OF JUSTICE

National Institute of Corrections

Solicitation for a Cooperative Agreement—Development of Comprehensive Objective Prison Classification Systems

AGENCY: National Institute of Corrections, Department of Justice.

ACTION: Solicitation for a cooperative agreement.

SUMMARY: This project will provide technical assistance to correctional agencies to update and improve objective classification systems; to build capacities in correctional agencies that will enable them to continue improvements; to validate or re-validate classification risk instruments; to expand the knowledge of research and strategies for appropriate and effective correctional classification practices that respond to emerging issues and management concerns; and to encourage the development of comprehensive objective classification systems.

The components of comprehensive objective prison classification systems will include external classification (security and custody for facility placement and supervision, including validation of risk instruments); internal classification (systems for guiding housing, work and program assignments within facilities); identification of desirable enhancements to the classification systems through information technology; development of gender-responsive strategies to appropriately classify women offenders; as well as to promote effective correctional practices for such areas as intake, needs assessment, community transition, and management of high risk offenders.

The recipient of this cooperative agreement award will provide on-site technical assistance to six to eight state correctional agencies that are assessing, validating and improving objective prison classification systems. This work will emphasize the importance of strategic planning and development of comprehensive objective prison classification systems that incorporate a strategically planned continuum of management strategies linking the essential and desirable elements of objective prison classification.

This project will also facilitate a two-day training program at the NIC Training Academy in Longmont, CO, and produce a record of proceedings of the peer training with practitioners.

Project Objectives: The primary objectives of this cooperative agreement are to provide concentrated on-site technical assistance to selected correctional agencies requesting assistance and to advance the development of comprehensive objective prison classification systems.

Scope of Work: There will be three major components in the scope of work:

1. Technical Assistance

On-site technical assistance will be provided to at least six correctional agencies through a clear, well-organized work plan that is responsive to each agency's needs and level of sophistication. This will require classification experts that are knowledgeable of correctional operations and principles of objective prison classification; have expertise in assessment, evaluation and validation research; understand the needs of practitioners and correctional agencies; are informed and sensitive to requirements for addressing gender-specific issues; and have demonstrated effectiveness in project management.

2. Training Program

Peer training will be conducted at the NIC Training Academy in Longmont, CO, with practitioners from a number of state correctional agencies that have recently received assistance through NIC. This will provide knowledgeable classification practitioners exposure to national issues through peer discussions facilitated by classification experts. The program will provide a forum for sharing developments in objective prison classification and provide an opportunity to broaden the understanding of better practices in prison classification. A report will be developed through the cooperative agreement to record the proceedings of the of the peer training.

NIC will provide funding for participant travel for the training program separately from the award.

3. Guidelines and Other Publications or Reports

A guidelines publication will be written on the development and management of comprehensive objective prison classification systems by utilizing classification experts, recommendations from practitioners, and knowledge developed in previous multi-year projects. The publication will focus on the development of comprehensive systems and represent the current thinking on objective prison classification. The document must be well-organized and written in understandable language for people with classification and non-classification experience. All parts should be illustrated by case examples and lessons learned from NIC's recent state projects, state reports and training programs.

Each state that receives technical assistance through this cooperative agreement will be provided with a full report with analysis of the data, recommendations and detailed summaries of the work.

At the conclusion of the cooperative agreement, a final report, not to exceed 50 pages, will be submitted for publication describing the issues and developments with states receiving technical assistance.

In consultation with NIC, documents developed through the cooperative agreement must be submitted as an edited final camera-ready copy for NIC publication in accordance with the NIC Preparation of Printed Materials for Publication. All products from this funding effort will be in the public domain and available to interested parties through the National Institute of Corrections.

Submission of Proposals: Applicants must provide goals, objectives, and methods of implementation for the project that are consistent with the announcement. Objectives should be clear, measurable, attainable, and focused on the methods used to conduct the project. Work activities will be coordinated closely with the NIC Program Manager.

Applicants should submit an implementation plan for the project to begin immediately following an award with a schedule in chart form which will demonstrate milestones for significant tasks. The timetable for the first quarter of the project must include making preparations for the training program that is scheduled for September 2000, the initial selection of sites, and starting on-site assistance.

Authority: Public Law 93-415.

Funds Available: The award will be limited to $300,000 (direct and indirect costs) and project activity must begin within 30 days of the date of award and be completed within 15 months. Funds may not be used for construction, or to acquire or build real property. This project will be a collaborative venture with the NIC Prisons Division.

Deadline for Receipt of Applications: Applications must be received by 4:00 PM on Friday, April 28, 2000. They should be addressed to: Director, National Institute of Corrections, 320 First Street, NW, Room 5007, Washington, DC 20534. Hand delivered applications should be brought to 500 First Street, NW, Washington, DC 20534. The front desk will call Bobbi Tinsley at (202) 307-3106, extension 0 for pickup.

Executive Order 12372: This program is subject to the provisions of Executive Order 12372. Executive Order 12372 allows States the option of setting up a system for reviewing applications from within their States for assistance under certain Federal programs. Applicants (other than Federally-recognized Indian tribal governments) should contact their State Single Point of Contact (SPOC), a list of which is included in the application Kit, along with further instructions on proposed projects serving more than one State.

Addresses and Further Information: Requests for the application kit should be directed by Judy Evens, Cooperative Agreement Control Office, National Institute of Corrections, 320 First Street, NW, Room 5007, Washington, DC 20534 or by calling 800-995-6423, ext. 159, 202-307-3106, ext. 159, or e-mail: jevens@bop.gov. A copy of this announcement and application forms may be obtained through the NIC web site: http://www.nicic.org (click on “What's New,” and “Cooperative Agreements”). Additional documents can be found through this web site under “Publications.” All technical and/or programmatic questions concerning this announcement should be directed to Sammie Brown, Program Manager, at 320 First Street, NW, Room 5007, Washington, DC 20534 or by calling 800-995-6423, ext. 126, 202-307-3106, ext. 126, or e-mail: sbrown@bop.gov.

Eligibility Applicants: An eligible applicant is any state or general unit of local government, public or private agency, educational institution, organization, team, or individual with the requisite skills to successfully meet the outcome objectives of the project. Collaborative teams involving practitioners, researchers, and other individuals with expertise and experience in specialized prison classification functional areas are encouraged.

Review Considerations: Applications received under this announcement will be subjected to an NIC 3 to 5 member Peer Review Process.

Number of Awards: One (1)

NIC Application Number: 00P13. This number should appear as a reference line in your cover letter and also in box 11 of Standard Form 424.

(Catalog of Federal Domestic Assistance Number: 16.603)

Dated: March 27, 2000.
Morris L. Thigpen,
Director, National Institute of Corrections.

[FR Doc. 00-7946 Filed 3-30-00; 8:45 am]

BILLING CODE 4410-36-M